DEPARTMENT OF TRANSPORTATION

Federal Railroad Administration

[Docket No. FRA-2010-0054]

Alaska Railroad Corporation's Request To Field Test Its Positive Train Control System

AGENCY: Federal Railroad Administration (FRA), Department of Transportation (DOT).

ACTION: Notice of availability and request for comments.

SUMMARY: This document provides the public with notice that, on April 25, 2022, the Alaska Railroad Corporation (ARRC) submitted a request to field test new functionality to improve the safety critical nature of existing functions, such as mandatory directive conveyance and confirmation, and conditional authorities, and a safety server that is being added in ARRC's PTC Office Segment to provide safety oversight of these new functions with the intent of improving the safety and efficiency of rail operations. FRA is publishing this notice and inviting public comment on the railroad's field test request.

DATES: FRA will consider comments received by July 11, 2022. FRA may consider comments received after that date to the extent practicable and without delaying implementation of valuable or necessary modifications to a PTC system.

ADDRESSES:

Comments: Comments may be submitted by going to https://www.regulations.gov and following the online instructions for submitting comments.

Instructions: All submissions must include the agency name and the applicable docket number. The relevant PTC docket number for this host railroad is Docket No. FRA-2010-0054. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: On December 11, 2020, FRA certified ARRC's Interoperable Electronic Train Management System (I-ETMS) PTC system under Title 49 Code of Federal Regulations (CFR) Section 236.1015 and Title 49 United States Code (U.S.C.) 20157(h). Pursuant to 49 CFR 236.1035, a railroad must obtain FRA's approval before field testing an uncertified PTC system, or a product of an uncertified PTC system, or any regression testing of a certified PTC system on the general rail system. See 49 CFR 236.1035(a).

Interested parties are invited to comment on ARRC's field test request by submitting written comments or data. During FRA's review of this railroad's field test request, FRA will consider any comments or data submitted within the timeline specified in this notice and to the extent practicable, without delaying implementation of valuable or necessary modifications to a PTC system. Under 49 CFR 236.1035, FRA maintains the authority to approve, approve with conditions, or deny a railroad's field test request at FRA's sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2022-09943 Filed 5-9-22; 8:45 am]

BILLING CODE 4910-06-P